DEPARTMENT OF LABOR

Office of the Secretary

Submission for OMB Review; Comment Request

September 12, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation, contact Darrin King on 202-693-4129 (this is not a toll-free number) or E-Mail: king.darrin@dol.gov.

Comments should be sent to Office of Information and Regulatory Affairs, Attn: OMB Desk Officer for the Employment and Training Administration (ETA), Office of Management and Budget, Room 10235, Washington, DC 20503 (202-395-7316/this is not a toll-free number), within 30 days from the date of this publication in the Federal Register.

The OMB is particularly interested in comments which:

• Evaluate whether the proposed collection of information is necessary for the proper performance of the functions of the agency; including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Reinstatement, with change, of a previously approved collection for which approval has expired.

Title: Indian and Native American Welfare-to-Work Program—Report forms and instructions.

OMB Number: 1205-0386.

Affected Public: State, local, or tribal govt.

Frequency: On occasion and quarterly.

Type of Response: Recordkeeping and reporting.

Number of Respondents: 40.

Information collection requirements | Annual responses | Frequency | Average response time (hours) | Annual burden hours
ETA 9069 (Participation and Characteristics Report) | 160 | Quarterly | 9 | 1,440
ETA 9069-1 (Financial Status Report) | 160 | Quarterly | 9 | 1,440
Recordkeeping | 6,600 | Occasion | 3 | 19,800
Total | 6,920 |  |  | 22,680

Total Annualized capital/startup costs: $0.

Total annual costs (operating/maintenance systems or purchasing services): $396,000.

Description: This request is for reinstatement of a previously-approved reporting package that expired on 09/30/2001. The period available for expenditure of INA WtW funds has been extended by statute for an additional two years, so that the last possible report(s) submitted would be for the period (quarter) ending 09/30/2004. The proposed changes to section II of ETA 9069 are indicated in statute by the 1999 Amendments.

Other than the accompanying changes to the instructions, there are otherwise no changes to the previously-approved package.

Ira L, Mills,
Departmental Clearance Officer.

[FR Doc. 03-25377 Filed 10-6-03; 8:45 am]

BILLING CODE 4510-23-M